DEPARTMENT OF THE INTERIOR

Fish and Wildlife Service

[FWS-R3-ES-2011-N258; FXHC113003000005B-123-FF03E00000]

Notice of Availability; Draft Springfield Plateau Regional Restoration Plan and Environmental Assessment

AGENCY: Fish and Wildlife Service, Interior.

ACTION: Notice of availability; request for public comments.

SUMMARY: The United States Department of the Interior (DOI), acting through the U.S. Fish and Wildlife Service (FWS), and the State of Missouri, acting through the Missouri Department of Natural Resources, have written a Draft Springfield Plateau Regional Restoration Plan and Environmental Assessment (Plan), which describes proposed alternatives for restoring injured natural resources in the Springfield Plateau ecoregion, and an environmental assessment, as required pursuant to the National Environmental Policy Act (NEPA). The purpose of this notice is to inform the public of the availability of the Draft Plan and to seek written comments. This notice is provided pursuant to Natural Resource Damage Assessment and Restoration (NRDAR) regulations and NEPA regulations.

DATES: To ensure consideration, please send your written comments on or before February 27, 2012.

ADDRESSES: Send comments via U. S. mail to: John Weber, Restoration Coordinator, U.S. Fish and Wildlife Service, 101 Park DeVille Dr., Suite A, Columbia, MO 65203; or Frances Klahr, Natural Resource Damages Coordinator, Missouri Department of Natural Resources, P.O. Box 176, Jefferson City, MO 65102-0176; or by electronic mail (email) to John_S_Weber@fws.gov, or frances.klahr@dnr.mo.gov.

FOR FURTHER INFORMATION CONTACT:

Case Management and Logistical Information: Dave Mosby, (573) 234-2132 (x113).

Technical Information: John Weber, (573) 234-2132 (x177).

Missouri Natural Resource Damages Coordinator: Frances Klahr, (573) 522-1347.

SUPPLEMENTARY INFORMATION: The U.S. Department of the Interior (represented by the U.S. Fish and Wildlife Service) and the State of Missouri (represented by the Missouri Department of Natural Resources) (Trustees) are trustees for natural resources considered in this restoration plan, pursuant to subpart G of the National Oil and Hazardous Substances Pollution Contingency Plan (40 CFR 300.600 and 300.610) and Executive Order 12580. The Memorandum of Understanding Between the Missouri Department of Natural Resources and U.S. Department of the Interior establishes a Trustee Council charged with developing and implementing a restoration plan for ecological restoration in the Springfield Plateau of southwest Missouri.

The Trustees followed the NRDAR regulations found at 43 CFR part 11 for the development of the Plan. The draft Springfield Plateau Regional Restoration Plan and Environmental Assessment will be finalized prior to implementation, after all public comments received during the public comment period are considered. Any significant additions or modifications to the Plan as restoration actions proceed will be made available for public review before any additions or modification are undertaken.

The objective of the NRDAR process in the Springfield Plateau is to compensate the public, through environmental restoration, for losses to natural resources that have been injured by releases of hazardous substances into the environment. The Comprehensive Environmental Response, Compensation, and Liability Act (CERCLA, more commonly known as the Federal “Superfund” law; 42 U.S.C. 9601, et seq.), and the Federal Water Pollution Control Act (commonly known as the Clean Water Act (CWA); 33 U.S.C. 1251 et seq.) authorize States, federally recognized tribes, and certain Federal agencies that have authority for natural resources “belonging to, managed by, controlled by or appertaining to the United States” to act as “trustees” on behalf of the public, to restore, rehabilitate, replace, and/or acquire natural resources equivalent to those injured by releases of hazardous substances.

The Trustees worked together, in a cooperative process, to identify appropriate restoration activities to address natural resource injuries caused by releases of hazardous substances into the Springfield Plateau environment. The results of this administrative process are contained in the planning and decision document being published for public review under CERCLA. Natural resource damages received, either through negotiated settlements or adjudicated awards, must be used to restore, rehabilitate, replace, and/or acquire the equivalent of those injured natural resources. The Plan addresses the Trustees' overall approach to restore, rehabilitate, replace, and/or acquire the equivalent of natural resources injured by the release of hazardous substances into the Springfield Plateau environment.

Public Involvement

Interested members of the public are invited to review and comment on the Plan. Copies of the Plan can be requested from the address listed below or can viewed online at http://www.fws.gov/midwest/nrda/motristate/or http://www.dnr.mo.gov/env/hwp/sfund/nrda.htm. You may also submit requests for copies of the Plan by sending electronic mail (email) to: John_S_Weber@fws.gov, or frances.klahr@dnr.mo.gov. Persons without access to the Internet may obtain copies of the Plan by contacting John Weber, Restoration Coordinator, U.S. Fish and Wildlife Service, 101 Park DeVille Dr., Suite A, Columbia, MO 65203.

Copies will also be available for on-site review at the following locations:

• Joplin Public Library: 300 S. Main Street, Joplin, MO;

• Neosho Public Library: 201 W. Spring Street, Neosho, MO;

• Springfield Public Library: 4653 S. Campbell Ave, Springfield, MO;

• U.S. Fish and Wildlife Service: 101 Park DeVille Dr. Suite A, Columbia, MO; and Missouri Department of Natural Resources: 1730 E. Elm St., Jefferson City, MO.

Availability of Comments

The U.S. Fish and Wildlife Service will provide copies of all comments to the other Trustees. All comments received from individuals become part of the official public record. Requests for such comments will be handled in accordance with the Freedom of Information Act and the Council on Environmental Quality's NEPA regulations (40 CFR 1506.6(f)), as well as the State of Missouri's Sunshine Law (Chapter 610, RSMo.). Before including your address, phone number, email address, or other personal identifying information in your comment, you should be aware that the entire comment, including your personal identifying information, may be available at any time. While individual respondents may request that the Fish and Wildlife Service and State of Missouri withhold their personal identifying information from public review, we cannot guarantee we will be able to do so.

Authority

This notice is provided pursuant to Natural Resource Damage Assessment and Restoration (NRDAR) regulations (43 CFR 11.81(d)(4)) and NEPA regulations (40 CFR 1506.6).

Dated: December 20, 2011.
Charlie Wooley,
Acting Regional Director, Midwest Region, Bloomington, MN.

[FR Doc. 2012-311 Filed 1-10-12; 8:45 am]

BILLING CODE 4310-55-P